FEDERAL RESERVE SYSTEM

Change in Bank Control Notices, Acquisition of Shares of Bank or Bank Holding Companies; Correction

This notice corrects a notice (FR Doc. E8-18107 published on pages 46005 and 46006 of the issue for Thursday, August 7, 2008.

Under the Federal Reserve Bank of Kansas City heading, the entry for The Schifferdecker Limited Partnersip, Girard, Kansas, is revised to read as follows:

A. Federal Reserve Bank of Kansas City (Todd Offenbacker, Assistant Vice President) 1 Memorial Drive, Kansas City, Missouri 64198-0001:

1. The Schifferdecker Limited Partnership, Girard, Kansas; Mark W. Schifferdecker, Girard, Kansas; Susan B. Friesen, Omaha, Nebraska; and Joy L. Shoop, Hiawatha, Kansas; as general partners, to acquire control of GN Bankshares, Inc., and thereby indirectly aacquire control of The Girard National Bank, both in Girard, Kansas.

Comments on this application must be received by August 21, 2008.

Board of Governors of the Federal Reserve System, August 7, 2008.
Robert deV. Frierson,
Deputy Secretary of the Board.

[FR Doc. E8-18554 Filed 8-11-08; 8:45 am]

BILLING CODE 6210-01-S